DEPARTMENT OF COMMERCE

International Trade Administration

Notice of Request for Public Comment

AGENCY: International Trade Administration, Department of Commerce.

ACTION: Notice of request for public comment.

SUMMARY: The Department of Commerce's International Trade Administration (ITA) is seeking U.S. companies and industry associations in the field of Information and Communication Technologies (ICT) who are interested in the Vietnam's business climate for U.S. products or services and how policy issues may have an impact on trade and investment in this sector. In 2007, the ITA launched the U.S.-Vietnam ICT Commercial Dialogue with the Ministry of Information and Communications (MIC) in Vietnam to discuss various ICT issues that have an impact on trade between our two countries. The U.S. and Vietnamese companies that participated in the meeting made several recommendations for future areas of cooperation. To continue facilitating input from the private sector, ITA and MIC agreed to create a Business Advisory Group under the Dialogue and encourage wide participation from both countries. The main objectives of the Business Advisory Group are to identify areas of mutual concern to be potentially addressed by the Working Group of the U.S.-Vietnam ICT Commercial Dialogue, and to coordinate activities that could be considered deliverables for the Dialogue. Examples of issues that have been covered so far include advancement of telecom infrastructure, protection of intellectual property rights for software, and supporting electronic commerce by developing legal frameworks for data privacy.

DATES: November 12-13, 2008.

ADDRESSES: Inquiries about participation in the Business Advisory Group should be addressed to the contact below, and received by close of business on Monday, November 10, 2008.

FOR FURTHER INFORMATION CONTACT: Cora Dickson, U.S. Department of Commerce, Office of Technology and Electronic Commerce, 1401 Constitution Avenue, NW., Room 4327, Washington, DC 20230; Telephone: 202-482-6083; Fax: 202-482-5834; e-mail: cora.dickson@mail.doc.gov.

SUPPLEMENTARY INFORMATION: The Business Advisory Group is expected to have participants from U.S. and Vietnamese companies or associations and generally be responsible for developing their own internal communication and consultation mechanisms, including informal meetings. Participation in the Business Advisory Group should be open to any ICT companies and industry associations who wish to contribute to the Dialogue. However, due to space constraints, only two representatives per company and/or organization can attend the upcoming Business Advisory Group meeting, which will be hosted at the Department of Commerce in Washington on November 12 in preparation for the U.S.-Vietnam ICT Commercial Dialogue Working Group meeting on November 13.

Dated: October 14, 2008.
Robin Layton,
Director, Office of Technology and Electronic Commerce.

[FR Doc. E8-24878 Filed 10-17-08; 8:45 am]

BILLING CODE 3510-DR-P